ENVIRONMENTAL PROTECTION AGENCY

[EPA-HQ-OPP-2019-0563; FRL-10009-21-OMS]

Information Collection Request Submitted to OMB for Review and Approval; Comment Request; Pesticide Registration Fees Program (Renewal)

AGENCY: Environmental Protection Agency (EPA).

ACTION: Notice.

SUMMARY: The Environmental Protection Agency (EPA) has submitted an information collection request (ICR), Pesticide Registration Fees Program (EPA ICR Number 2330.04, OMB Control Number 2070-0179) to the Office of Management and Budget (OMB) for review and approval in accordance with the Paperwork Reduction Act. This is a proposed extension of the ICR, which is currently approved through September 30, 2020. Public comments were previously requested via the Federal Register on December 3, 2019 during a 60-day comment period. This notice allows for an additional 30 days for public comments. A fuller description of the ICR is given below, including its estimated burden and cost to the public. An agency may not conduct or sponsor and a person is not required to respond to a collection of information unless it displays a currently valid OMB control number.

DATES: Additional comments may be submitted on or before October 29, 2020.

ADDRESSES: Submit your comments to EPA, referencing Docket ID No. EPA-HQ-OPP-2019-0563, online using www.regulations.gov (our preferred method), or by mail to: EPA Docket Center, Environmental Protection Agency, Mail Code 28221T, 1200 Pennsylvania Ave. NW, Washington, DC 20460. EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Carolyn Siu, Field and External Affairs Division, Office of Pesticide Programs, 7506P, Environmental Protection Agency, 1200 Pennsylvania Ave. NW, Washington, DC 20460; telephone number: (703) 347-0159; email address: siu.carolyn@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR covers the paperwork burden hours and costs associated with the information collection activities under the pesticide registration fee programs implemented through the Office of Pesticide Programs (OPP), Environmental Protection Agency (EPA). Pesticide registrants are required by statute to pay an annual registration maintenance fee for all products registered under Section 3 and Section 24(c) of the Federal Insecticide, Fungicide, and Rodenticide Act (FIFRA). In addition, the Pesticide Registration Improvement Act (PRIA) amended FIFRA in 2004 to create a registration service fee system for applications for specific pesticide registration, amended registration, and associated tolerance actions (Section 33). This ICR specifically covers the activities related to the collection of the annual registration maintenance fees, the registration service fees and the burden associated with the submission of requests for fees to be waived.

Form Numbers: 8570-30.

Respondents/affected entities: North American Industrial Classification System (NAICS) codes: 3250A1—Pesticide and other agricultural chemical manufacturing; 32518—Other Basic Inorganic Chemical Manufacturing; 32519—Other Basic Organic Chemical Manufacturing and 9641—Regulation of Agricultural Marketing and Commodities.

Respondent's obligation to respond: Mandatory under FIFRA sections 4(i)(5) and 33.

Estimated number of respondents: 1,523 (total).

Frequency of response: Annually and on occasion.

Total estimated burden: 8,540 hours (per year). Burden is defined at 5 CFR 1320.03(b).

Total estimated cost: $687,301 (per year), which includes $3,600 annualized capital or operation & maintenance costs.

Changes in the estimates: There is an increase of 229 hours in the total estimated respondent burden compared with the ICR currently approved by OMB. This modest addition is associated with an increase in respondents for pesticide registration maintenance fees (from 1,471 to 1,523) and in refinements of the burden calculations. The total estimated annual respondent burden for service fee waivers has not changed.

Courtney Kerwin,
Director, Regulatory Support Division.

[FR Doc. 2020-21529 Filed 9-28-20; 8:45 am]

BILLING CODE 6560-50-P